DEPARTMENT OF COMMERCE

National Oceanic and Atmospheric Administration

50 CFR Part 223

[I.D. 081699C, 092199A, 092799G]

Endangered and Threatened Species; Extension of Comment Periods and Notice of Additional Public Hearings for Proposed Rules Governing Take of West Coast Chinook, Chum, Coho and Sockeye Salmon and Steelhead Trout

AGENCY: National Marine Fisheries Service (NMFS), National Oceanic and Atmospheric Administration (NOAA), Commerce.

ACTION: Proposed rule; extension of public comment periods; notification of public hearings.

SUMMARY: NMFS is extending the public comment periods and announcing additional public hearings for the following: Proposed Rule Governing Take of Seven Threatened Evolutionarily Significant Units (ESUs) of West Coast Salmonids; Proposed Rule Governing Take of Threatened Snake River, Central California Coast, South/Central California Coast, Lower Columbia River, Central Valley California, Middle Columbia River, and Upper Willamette River Evolutionarily Significant Units (ESUs) of West Coast Steelhead; and Limitation on Section 9 Protections Applicable to Salmon Listed as Threatened under the Endangered Species Act (ESA), for Actions Under Tribal Resource Management Plans. NMFS is extending the comment periods and holding additional public hearings for all three rules to avoid confusion and facilitate public participation in this regulatory process.

DATES: Written comments on the previously mentioned proposed rules must be received no later than 5 p.m. Pacific standard time, on March 6, 2000. See SUPPLEMENTARY INFORMATION for hearing dates.

ADDRESSES: Written comments on the proposed rules and requests for reference materials should be sent to Chief, Protected Resources Division, NMFS, 525 NE Oregon Street, Suite 500, Portland, OR 97232-2737. Comments will not be accepted if submitted via e-mail or the Internet. See SUPPLEMENTARY INFORMATION for hearing addresses.

FOR FURTHER INFORMATION CONTACT: Garth Griffin, (503) 231-2005; Craig Wingert, (562) 980-4021; or Chris Mobley, (301) 713-1401. Copies of the Federal Register documents cited herein and additional salmon-related materials are available via the Internet at www.nwr.noaa.gov.

SUPPLEMENTARY INFORMATION:

Background

Under section 4(d) of the Endangered Species Act (ESA), the Secretary of Commerce (Secretary) is required to adopt such regulations as he deems necessary and advisable for the conservation of species listed as threatened. On December 30, 1999 (64 FR 73479), NMFS issued a proposed rule under section 4(d) of the ESA which contains the regulations that, it believes, are necessary and advisable to conserve threatened Snake River, Central California Coast, South/Central California Coast, Lower Columbia River, Central Valley California, Middle Columbia River, and Upper Willamette River ESUs of West Coast Steelhead. The proposed rule applies ESA section 9(a)(1) prohibitions to the previously mentioned steelhead ESUs, but proposes not to apply the take prohibitions to 13 specific programs which limit impacts on listed steelhead to an extent that makes added protection through Federal regulation not necessary and advisable for the conservation of these ESUs (see 64 FR 73479).

On January 3, 2000 (65 FR 170), NMFS issued a proposed rule under section 4(d) of the ESA which was nearly identical to the December 30, 1999, proposal except that it applied to the following species of salmon: Oregon Coast Coho, Puget Sound, Lower Columbia and Upper Willamette Chinook, Hood Canal Summer-run and Columbia River Chum, and Ozette Lake Sockeye.

Also on January 3, 2000 65 FR 108), NMFS issued a proposed rule under section 4(d) of the ESA that would not impose the section 9(a)(1) prohibitions on take when impacts on threatened salmonids result from implementation of a tribal resource management plan, where the Secretary has determined that implementing that Tribal Plan will not appreciably reduce the likelihood of survival and recovery for the listed species. This proposal applies to threatened salmonids that are currently subject to ESA section 9(a)(1) take prohibitions: Snake River spring/summer chinook salmon; Snake River fall chinook salmon; Central California Coast (CCC) coho salmon; and Southern Oregon/Northern California Coast (SONCC) coho salmon. This proposed limitation on take prohibitions would also be available for all other threatened salmonid ESUs whenever final ESA section 9(a) are made applicable to that ESU.

NMFS has received a number of requests for additional public hearings to allow further opportunity for the public to participate in the exchange of information and opinion among interested parties and to provide oral and written testimony. NMFS finds that two of these requests are reasonable and has scheduled additional meetings accordingly.

Because these closely related rules have public comment periods that end on different dates (February 22, 2000, and March 3, 2000, for the steelhead proposal and for the other 2 proposals, respectively), NMFS is extending the comment period for all three rules to avoid confusion and facilitate public participation in this regulatory process.

NMFS is soliciting specific information, comments, data, and/or recommendations on any aspect of the December 30, 1999, and January 3, 2000, proposals from all interested parties. This information is considered critical in helping NMFS make final determinations on the proposals. NMFS will consider all information, comments, and recommendations received during the comment period and at the public hearings before reaching a final decision.

Public Hearings

Additional public hearings have been scheduled as follows:

(1) February 17, 2000, 6:00-9:00 p.m., Idaho State University, Wood River Dining Room, 1065 S. 8th Street, Pocatello, Idaho; and

(2) February 22, 2000, 6:00-9:00 p.m., Cowlitz County Administration Building, General Meeting Room, 207 4th Avenue N., Kelso, Washington.

Special Accommodations

These hearings are physically accessible to people with disabilities. Requests for sign language or other aids should be directed to Garth Griffin (see ADDRESSES) 7 days before each meeting date.

Dated: February 7, 2000.
Penelope D. Dalton,
Assistant Administrator for Fisheries, National Marine Fisheries Service.

[FR Doc. 00-3288 Filed 2-11-00; 8:45 am]

BILLING CODE 3510-22-M